NUCLEAR REGULATORY COMMISSION

[NRC-2015-0001]

Sunshine Act Meeting Notice

DATES: March 16, 23, 30, April 6, 13, 20, 2015.

PLACE: Commissioners' Conference Room, 11555 Rockville Pike, Rockville, Maryland.

STATUS: Public and Closed.

Week of March 16, 2015

There are no meetings scheduled for the week of March 16, 2015.

Week of March 23, 2015—Tentative

Thursday, March 26, 2015

9:30 a.m. Briefing on Security Issues (Closed—Ex. 1)

1:30 p.m. Briefing on Security Issues (Closed—Ex. 1)

Friday, March 27, 2015

9:30 a.m. Briefing on Threat Environment Assessment (Closed-Ex. 1)

Week of March 30, 2015—Tentative

There are no meetings scheduled for the week of March 30, 2015.

Week of April 6, 2015—Tentative

There are no meetings scheduled for the week of April 6, 2015.

Week of April 13, 2015—Tentative

Tuesday, April 14, 2015

9:30 a.m. Meeting with the Advisory Committee on the Medical Uses of Isotopes (Public Meeting) (Contact: Nima Ashkeboussi, 301-415-5775)

This meeting will be webcast live at the Web address— http://www.nrc.gov/.

Thursday, April 16, 2015

9:30 a.m. Meeting with the Organization of Agreement States and the Conference of Radiation Control Program Directors (Public Meeting) (Contact: Nima Ashkeboussi, 301-415-5775)

This meeting will be webcast live at the Web address— http://www.nrc.gov/.

Week of April 20, 2015—Tentative

There are no meetings scheduled for the week of April 20, 2015.

* * * * *

The schedule for Commission meetings is subject to change on short notice. For more information or to verify the status of meetings, contact Glenn Ellmers at 301-415-0442 or via email at Glenn.Ellmers@nrc.gov.

* * * * *

Additional Information

1. By a vote of 3-0 on March 9, 2015, the Commission determined pursuant to U.S.C. 552b(e) and 9.107(a) of the Commission's rules that an Affirmation Session for Entergy Nuclear Operations, Inc. (Indian Point Nuclear Generating Units 2 and 3)—Petitions for Review of LBP-13-13 (Partial Initial Decision) and Related Decisions (Appeals of Board Decisions Related to Contentions NUS-8 CW-EC-3) be held with less than one week notice to the public. The meeting was held on March 9, 2015.

2. The Affirmation Session for Omaha Public Power District (Fort Calhoun Station, Unit 1), Petition to Intervene and Request for Adjudicatory Hearing by Sierra Club (Apr. 23, 2014), previously scheduled for March 5, 2015, was held on March 9, 2015.

3. The meeting with the Advisory Committee on Reactor Safeguards, scheduled for March 5, 2015, was postponed.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: March 13, 2015.
Glenn Ellmers,
Policy Coordinator, Office of the Secretary.

[FR Doc. 2015-06188 Filed 3-13-15; 4:15 pm]

BILLING CODE 7590-01--P